DEPARTMENT OF THE TREASURY

Internal Revenue Service

Open Meeting of the Small Business/Self Employed—Taxpayer Burden Reduction Issue Committee of the Taxpayer Advocacy Panel

AGENCY: Internal Revenue Service (IRS) Treasury.

ACTION: Notice of meeting.

SUMMARY: An open meeting of the Taxpayer Advocacy Panel Small Business/Self Employed—Taxpayer Burden Reduction Issue Committee will be conducted. The Taxpayer Advocacy Panel is soliciting public comment, ideas, and suggestions on improving customer service at the Internal Revenue Service.

DATES: The meeting will be held Thursday, May 29, 2008, and Friday, May 30, 2008.

FOR FURTHER INFORMATION CONTACT: Marisa Knispel at 1-888-912-1227 or (718) 488-3557.

SUPPLEMENTARY INFORMATION: Notice is hereby given pursuant to Section 10(a)(2) of the Federal Advisory Committee Act, 5 U.S.C. App. (1988) that a meeting of the Taxpayer Advocacy Panel Small Business/Self Employed—Taxpayer Burden Reduction Issue Committee will be held Thursday, May 29, 2008, 9 a.m. to 5 p.m., and Friday, May 30, 2008, 8 a.m. to 4:30 p.m., Mountain Time, in Denver, CO. You can submit written comments to the panel by faxing to (718) 488-2062, or by mail to Taxpayer Advocacy Panel, 10 Metro Tech Center, 625 Fulton Street, Brooklyn, NY, 11201, or you can contact us at http://www.improveirs.org. Public comments will also be welcome during the meeting. Please contact Marisa Knispel at 1-888-912-1227 or (718) 488-3557 for additional information.

The agenda will include the following: Various IRS Issues.

Dated: March 24, 2008.
Sandra L. McQuin,
Acting Director, Taxpayer Advocacy Panel.

[FR Doc. E8-6745 Filed 4-1-08; 8:45 am]

BILLING CODE 4830-01-P